DEPARTMENT OF HEALTH AND HUMAN SERVICES

Administration for Children and Families

[Program Announcement No. ACF/ACYF/CB FY 2000-01A]

Announcement of the Availability of Financial Assistance and Request for Applications To Support Adoption Opportunities Demonstration Projects, Child Abuse and Neglect Discretionary Activities, Child Welfare Training Projects, and Abandoned Infants Assistance Awards

AGENCY: Children's Bureau, Administration on Children, Youth and Families, ACF, DHHS.

ACTION: Correction.

SUMMARY: This document contains a correction to the Notice that was published in the Federal Register on Thursday, April 13, 2000 (65 FR 19904). The information in the “Eligible Applicants” sections of the notice is more restrictive than intended. For the correct less restrictive requirements please see the complete announcement package posted on the Children's Bureau website: http://www.acf.dhhs.gov/programs/cb/policy/cb200001.htm.

FOR FURTHER INFORMATION CONTACT: The ACYF Operations Center at 1-800-351-2293 or send an email to cb@lcgnet.com. You can also contact Sally Flanzer, Children's Bureau, at 202-215-8914.

Dated: April 27, 2000.
James Harrell,
Deputy Commissioner, Administration on Children, Youth and Families.

[FR Doc. 00-11019 Filed 5-2-00; 8:45 am]

BILLING CODE 4184-01-M